DEPARTMENT OF THE INTERIOR

National Park Service

30-Day Notice of Request for Extension of a Currently Approved Information Collection

AGENCY: National Park Service, Department of the Interior.

ACTION: Notice of submission to OMB and request for comments.

SUMMARY: In accordance with the Paperwork Reduction Act of 1995 (Pub. L. 104-13), this notice announces the National Park Service's (NPS) intention to request an extension for a currently approved information collection request (OMB control number 1024-009) used in the Historic Preservation Tax Incentives Program administered by the NPS.

The Primary Purpose of the Information Collection Request: Section 47 of the Internal Revenue Code requires that the Secretary of the Interior certify to the Secretary of the Treasury upon application by owners of historic properties for Federal tax benefits, (a) the historic character of the property, and (b) that the rehabilitation work is consistent with that historic character. The NPS administers the program in partnership with the Internal Revenue Service. The Historic Preservation Certification Application is used by the NPS to evaluate the condition and historic significance of buildings undergoing rehabilitation for continued use, and to evaluate whether the rehabilitation work meets the Secretary of the Interior's “Standards for Rehabilitation.”

DATES: Comments on this notice must be received by June 30, 2003 to be assured of consideration.

ADDRESSES: Send comments to: Attention: Desk Officer for the Department of the Interior, OMB Office of Information and Regulatory Affairs, via facsimile at (202) 395-5806, or via e-mail at Ruth_ Solomon@omb.eop.gov. Also send a copy of your comments to: Sharon C. Park, Heritage Preservation Services, National Park Service, 1949 C St., NW., Org. code 2255, Washington, D.C. 20240-0001.

FOR FURTHER INFORMATION CONTACT: Michael Auer, 202-354-2031.

SUPPLEMENTARY INFORMATION: Under the Paperwork Reduction Act of 1995 and 5 CFR part 1320, Reporting and Record Keeping Requirements, the bureau solicits public comments on the Historic Preservation Certification Application as to:

1. Whether the collection of information is necessary for the proper performance of the functions of the bureau, including whether the information will have practical utility;

2. The accuracy of the bureau's estimate of the burden of the collection of information, including the validity of the methodology and assumptions used;

3. The quality, utility, and clarity of the information to be collected; and,

4. How to minimize the burden of the collection of information on those who are to respond, including the use of appropriate automated electronic, mechanical, or other forms of information technology.

5. The appropriateness of the filing fee. In addition to the hour burden, there is a filing fee for applications describing rehabilitation projects over $20,000. The fee is based on the size of the rehabilitation, according to a fee schedule published in 36 CFR 67.11, as follows:

Fee | Size of rehabilitation
$500 | $20,001 to $99,999
$800 | $100,000 to $499,999
$1,500 | $500,000 to $999,999
$2,500 | $1,000,000 or more

Historic Preservation Certification application (36 CFR Part 67.3)

1. Title: Historic Preservation Certification Application.

2. Summary: Request for an extension for a currently approved information collection request (OMB control number 1024-009) used in the Historic Preservation Tax Incentives Program administered by the NPS.

3. Need for information and proposed use: To enable the Secretary of the Interior to make certifications to the Secretary of the Treasury concerning historic buildings undergoing rehabilitation for the purposes of a Federal income tax credit.

4. Respondents are owners of historic buildings, or qualified long-term lessees. The number of respondents is estimated to be 3,000 per year. The frequency of response is on occasion, as requested by owners of buildings (one response per respondent).

5. The total annual reporting and recordkeeping burden is estimated to be 7,500 hours.

6. The non-hour dollar burden (based on filing fees) is estimated to be $1,000,000.

Dated: May 22, 2003.
Linda M. Newbold,
Acting, NPS Information Collection Clearance Officer.

[FR Doc. 03-13328 Filed 5-28-03; 8:45 am]

BILLING CODE 4312-52-M